DEPARTMENT OF HOMELAND SECURITY

Coast Guard

[CGD08-06-003]

Houston/Galveston Navigation Safety Advisory Committee

AGENCY: Coast Guard, DHS.

ACTION: Notice of meetings.

SUMMARY: The Houston/Galveston Navigation Safety Advisory Committee (HOGANSAC) and its working groups will meet to discuss waterway improvements, aids to navigation, area projects impacting safety on the Houston Ship Channel, and various other navigation safety matters in the Galveston Bay area. All meetings will be open to the public.

DATES: The next meeting of HOGANSAC will be held on Thursday, February 23, 2006 at 1 p.m. The meeting of the Committee's working groups will be held on Thursday, February 9, 2006 at 9 a.m. The meetings may adjourn early if all business is finished. Members of the public may present written or oral statements at either meeting. Requests to make oral presentations or distribute written materials at the full HOGANSAC meeting should reach the Coast Guard five (5) working days before that meeting. Requests to have written materials distributed to each member of the full committee in advance of their meeting should reach the Coast Guard at least ten (10) working days before the full HOGANSAC meeting.

ADDRESSES: The full Committee meeting will be held at the Charles P. Doyle Convention Center, 2010 5th Avenue North, Texas City, Texas 77590, (409-948-3111). The working groups meeting will be held at Coast Guard Sector Houston-Galveston, 9640 Clinton Dr. Houston, TX 77029 (713-671-5100). This notice is available on the Internet at http://dms.dot.gov.

FOR FURTHER INFORMATION CONTACT: Captain Richard Kaser, Executive Director of HOGANSAC, telephone (713) 671-5199, Commander Jerry Torok, Executive Secretary of HOGANSAC, telephone (713) 671-5164, or Lieutenant Junior Grade Kevin Cooper, Assistant to the Executive Secretary of HOGANSAC, telephone (713) 678-9001, e-mail kcooper@grugalveston.uscg.mil. Written materials and requests to make presentations should be sent to Commanding Officer, Sector Houston/Galveston, Attn: LTJG Cooper, 9640 Clinton Drive, Houston, TX 77029.

SUPPLEMENTARY INFORMATION: Notice of this meeting is given pursuant to the Federal Advisory Committee Act, 5 U.S.C. App. 2.

Agendas of the Meetings

Houston/Galveston Navigation Safety Advisory Committee (HOGANSAC). The tentative agenda includes the following:

(1) Opening remarks by the Committee Sponsor (RADM Duncan) or the Committee Sponsor's representative, Executive Director (CAPT Kaser) and Chairperson (Ms. Patricia Clark).

(2) Approval of the October 18, 2005 minutes.

(3) Old Business:

(a) Dredging projects.

(b) AtoN Knockdown Working Group.

(c) Navigation Operations subcommittee report.

(d) Area Maritime Security Committee Liaison's report.

(e) Technology subcommittee report.

(f) Deep draft Entry Facilitation Working Group.

(g) Port Coordination Team Updates.

(h) Limited Visibility Working Group.

(i) Liquified Natural Gas Working Group.

(4) New Business.

(a) Vessel Traffic Service State of the Waterways Address.

(b) Swearing in of new member.

(c) Other presentations/New business.

Working Groups Meeting. The tentative agenda for the working groups meeting includes the following:

(1) Presentation by each working group of its accomplishments and plans for the future.

(2) Review and discuss the work completed by each working group.

Procedural

Working groups have been formed to examine the following issues: Dredging and related issues, electronic navigation systems, AtoN knockdowns, impact of passing vessels on moored ships, boater education issues, facilitating deep draft movements and mooring infrastructure. Not all working groups will provide a report at this session. Further, working group reports may not necessarily include discussions on all issues within the particular working group's area of responsibility. All meetings are open to the public. Please note that the meetings may adjourn early if all business is finished. Members of the public may make presentations, oral or written, at either meeting. Requests to make oral presentations or distribute written materials at the full HOGANSAC meeting should reach the Coast Guard five (5) working days before that meeting. Requests to have written materials distributed to each member of the full committee in advance of their meeting should reach the Coast Guard at least ten (10) working days before the full HOGANSAC meeting and should include fifteen (15) copies of the materials.

Information on Services for the Handicapped

For information on facilities or services for the handicapped or to request special assistance at the meetings, contact the Executive Director, Executive Secretary, or Assistant to the Executive Secretary as soon as possible.

Dated: January 27, 2006.
R.F. Duncan,
Rear Admiral, U.S. Coast Guard, Commander, Eighth Coast Guard District.

[FR Doc. 06-1276 Filed 2-7-06; 3:58 pm]

BILLING CODE 4910-15-P